DEPARTMENT OF TRANSPORTATION

Federal Aviation Administration

Drone Advisory Committee (DAC); Notice of Public Meeting

AGENCY: Federal Aviation Administration, Department of Transportation.

ACTION: Notice of public meeting.

SUMMARY: This notice announces a meeting of the Drone Advisory Committee.

DATES: The meeting will be held on June 19, 2020, between 9:00 a.m. and 4:00 p.m. Eastern Time.

Requests to attend the meeting must be received by June 12, 2020.

Requests for accommodations for a disability must be received by June 5, 2020.

Requests to submit written materials to be reviewed during the meeting must be received no later than June 12, 2020.

ADDRESSES: The meeting will be held virtually. Members of the public who wish to observe the meeting must RSVP by emailing DACmeetingRSVP@faa.gov. For copies of meeting minutes along with all other information please visit the DAC internet website at https://www.faa.gov/uas/programs_partnerships/drone_advisory_committee/.

FOR FURTHER INFORMATION CONTACT: Gary Kolb, UAS Stakeholder & Committee Liaison, Federal Aviation Administration, U.S. Department of Transportation, at gary.kolb@faa.gov or 202-267-4441. Any committee related request or reasonable accommodation request should be sent to the person listed in this section.

SUPPLEMENTARY INFORMATION:

I. Background

The DAC was created under the Federal Advisory Committee Act (FACA), in accordance with Title 5 of the United States Code (5 U.S.C. App. 2) to provide the FAA with advice on key UAS integration issues by helping to identify challenges and prioritize improvements.

II. Agenda

At the meeting, the agenda will cover the following topics:

• Official Statement of the Designated Federal Officer

• Approval of the Agenda and Minutes

• Opening Remarks

• FAA Update

• Industry-Led Technical Topics

• New Business/Agenda Topics

• Closing Remarks

• Adjourn

Additional details will be posted on the DAC internet website address listed in the ADDRESSES section at least 5 days in advance of the meeting.

III. Public Participation

The meeting will be open to the public on a first-come, first-served basis, as space is limited. Members of the public who wish to attend in person or observe the virtual session must RSVP by emailing the address listed in the ADDRESSES section with your name and affiliation. The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Written statements submitted by the deadline will be provided to the DAC members before the meeting. Any member of the public may submit a written statement to the committee at any time.

Issued in Washington, DC.
Erik W. Amend,
Manager, Executive Office, UAS Integration Office, AUS-10, Federal Aviation Administration.

[FR Doc. 2020-09394 Filed 5-1-20; 8:45 am]

BILLING CODE 4910-13-P